DEPARTMENT OF THE INTERIOR

Minerals Management Service

30 CFR Part 206

RIN 1010-AD04

Federal Oil Valuation

AGENCY: Minerals Management Service (MMS), Interior.

ACTION: Final rule—technical amendment.

SUMMARY: The July 6, 2004, effective date of the final rule originally published May 5, 2004, entitled “Federal Oil Valuation,” is changed to August 1, 2004, to correct an inadvertent clerical error.

DATES: The correct effective date of the rule published on May 5, 2004, at 69 FR 24959, is August 1, 2004.

FOR FURTHER INFORMATION CONTACT: Sharron L. Gebhardt, Lead Regulatory Specialist, Chief of Staff Denver Office, Minerals Revenue Management, MMS at (303) 231-3211. E-mail: Sharron.Gebhardt@mms.gov. Address: P.O. Box 25165, MS 320B2, Denver, Colorado 80225-0165.

SUPPLEMENTARY INFORMATION: The MMS published a final rule entitled “Federal Oil Valuation” in the Federal Register on May 5, 2004 (69 FR 24959). The May 2004 final rule amended the existing regulations governing the valuation of crude oil produced from Federal leases for royalty purposes, and related provisions governing the reporting thereof. The amendments primarily affect which published market prices are most appropriate to value crude oil not sold at arm's length and what transportation deductions should be allowed. The effective date for the May 2004 final rule as originally published is July 6, 2004.

The original intent in publishing the May 2004 final rule was to make the rule become effective on the first day of the calendar month that is more than 60 days following the date of publication in the Federal Register. Through an inadvertent clerical error, just prior to publication, the effective date was changed to 60 days following the date of publication in the Federal Register. Consequently, the rule was published with an effective date of July 6, 2004. If left unchanged, Federal lessees would have to apply the existing rule to oil produced from July 1 through July 5, 2004, and then apply the May 2004 final rule to oil produced from July 6 to July 31, 2004. It was not MMS's intent to require Federal lessees to value oil produced during a particular production month (in this case, July 2004) using two different valuation rules. The MMS recognizes that to do so would be both administratively burdensome and costly to Federal lessees and MMS. Therefore, MMS is changing the effective date of the May 2004 final rule from July 6, 2004, to August 1, 2004.

This change does not require public comment under 5 U.S.C. 553(b)(3)(B). Public comment is unnecessary for the reasons explained above. Under 5 U.S.C. 553(d), MMS, for good cause, finds that this final rule—technical amendment, should be immediately final upon publication to correct MMS's inadvertent clerical error regarding the May 2004 final rule's effective date.

Dated: May 17, 2004.
Rebecca W. Watson,
Assistant Secretary for Land and Minerals Management.

[FR Doc. 04-11665 Filed 5-21-04; 8:45 am]

BILLING CODE 4310-MR-P